DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by July 19, 2002.

Title, Form, and OMB Number: Application for Uniformed Services Identification Card—DEERS Enrollment; DD Form 1172; OMB Number 0704-0020.

Type of Request: Extension.

Number of Respondents: 1,690,048.

Responses per Respondent: 1.

Annual Responses: 1,690,048.

Average Burden per Response: 10 minutes.

Annual Burden Hours: 281,675.

Needs and Uses: This information collection requirement is necessary to authorize members of the Uniformed Services, their spouses and dependents, and other authorized individuals certain benefits and privileges. These privileges include health care, use of commissary, base exchange, and morale, welfare and recreation facilities. This information collection is needed to obtain the necessary data to determine eligibility to benefits and privileges, to provide eligible individuals with an authorization card (identification card) for benefits and privileges administered by the Uniformed Services, and to maintain a centralized database of eligible individuals. This information collection may also be used by the Uniformed Services, military departments, and the Defense Agencies to issue their non-benefit identification cards.

Affected Public: Individuals or Households.

Frequency: On occasion.

Respondent's Obligation: Required to Obtain or Retain Benefits.

OMB Desk Officer: Ms. Jackie Zeiher.

Written comments and recommendations on the proposed information collection should be sent to Ms. Zeiher at the Office of Management and Budget, Desk Officer for DoD, Room 10236, New Executive Office Building, Washington, DC 20503.

DOD Clearance Officer: Mr. Robert Cushing.

Written requests for copies of the information collection proposal should be sent to Mr. Cushing WHS/DIOR, 1215 Jefferson Davis Highway, Suite 1204, Arlington, VA 22202-4302.

Dated: May 10, 2002.
Patricia L. Toppings,
Alternate OSD Federal Register, Liaison Officer, Department of Defense.

[FR Doc. 02-12504 Filed 5-17-02; 8:45 am]

BILLING CODE 5001-08-M